DEPARTMENT OF COMMERCE

National Oceanic and Atmospheric Administration

RIN 0648-XE395

Notice of Intent To Prepare an Environmental Impact Statement for Hatchery Programs Along the Oregon Coast

AGENCY: National Marine Fisheries Service (NMFS), National Oceanic and Atmospheric Administration (NOAA), Commerce.

ACTION: Notice of intent to prepare an environmental impact statement; request for comments.

SUMMARY: Pursuant to the National Environmental Policy Act (NEPA), this notice announces that NMFS intends to obtain information necessary to prepare an Environmental Impact Statement (EIS) for Hatchery and Genetic Management Plans (HGMPs) submitted by the Oregon Department of Fish and Wildlife (ODFW) for NMFS's evaluation and determination under Limit 5 of the Endangered Species Act (ESA) 4(d) Rule for threatened salmon and steelhead. The HGMPs specify the propagation of salmon, steelhead, and trout released in rivers, streams, and lakes throughout the Oregon Coast region.

NMFS provides this notice to: (1) Advise other agencies and the public of its plans to analyze effects related to the action, and (2) obtain suggestions and information that may be useful to the scope of issues and alternatives to include in the EIS. This notice further serves to notify the public of the availability of the HGMPs for comment prior to a decision by NMFS on whether to approve the proposed hatchery programs.

DATES: Written or electronic scoping comments must be received at the appropriate address or email mailbox (see ADDRESSES) no later than 5 p.m. Pacific Time February 16, 2016.

ADDRESSES: Written comments may be sent by any of the following methods:

• Email to the following address: OregonCoastHatcheryEIS.wcr@noaa.gov with the following identifier in the subject line: Oregon Coast Hatchery EIS.

• Mail or hand-deliver to NMFS Sustainable Fisheries Division, 2900 NW Stewart Parkway, Roseburg, OR 97471.

• Fax to (541) 957-3386.

Comments received will be available for public inspection, by appointment, during normal business hours at the above address. All Personal Identifying Information (for example, name, address, etc.) voluntarily submitted by the commenter may be publicly accessible. Do not submit Confidential Business Information or otherwise sensitive or protected information.

Additional information to assist with consideration of the notice of intent, as well as the HGMPs themselves, is available on the Internet at www.westcoast.fisheries.noaa.gov.

FOR FURTHER INFORMATION CONTACT: Lance Kruzic, NMFS, by phone at (541) 957-3381, or email to lance.kruzic@noaa.gov.

SUPPLEMENTARY INFORMATION:

ESA-Listed Species Covered in This Notice

Coho salmon (O. kisutch): Threatened, naturally-produced and specified artificially-produced stocks in the Southern Oregon/Northern California Coast and Oregon Coast Evolutionarily Significant Units (ESUs).

Background

The ODFW has submitted HGMPs for all hatchery programs along the Oregon Coast to NMFS, pursuant to Limit 5 of the 4(d) Rule for salmon and steelhead promulgated under the ESA (65 FR 42422, July 10, 2000). Before a decision is made by NMFS on these HGMPs, NEPA requires Federal agencies to conduct environmental analyses of proposed actions to fully consider their effects on the human environment. NMFS's action of evaluating ODFW's HGMPs under Limit 5 of the 4(d) Rule is a major Federal action subject to environmental review under NEPA. Therefore, NMFS is seeking public input on the scope of the required NEPA analysis, including the range of reasonable alternatives, recommendations for relevant analysis methods, and information associated with impacts of the alternatives to the resources listed below or other relevant resources.

The hatchery facilities to be considered in the analysis are Cole Rivers Hatchery, Indian Hatchery, Elk Hatchery, Bandon Hatchery, Rock Hatchery (Umpqua River), Alsea Hatchery, Salmon Hatchery, Cedar Hatchery, Trask Hatchery, Nehalem Hatchery, and associated satellite facilities. Hatchery fish are released into the following waterbodies: Chetco, Rogue, Elk, Coquille, Coos Umpqua, Siuslaw, Alsea, Yaquina, Siletz, Salmon, Nestucca, Trask, Wilson, and Nehalem Rivers, Tenmile Creek, and various coastal lakes. A list of all of the hatchery programs, including links to the HGMPs themselves, is available on the Internet (see ADDRESSES).

NMFS will perform an environmental review of the Oregon Coast HGMPs (and associated hatchery facilities) and prepare an EIS that will evaluate potentially significant direct, indirect, and cumulative impacts on the following resources identified to have a potential for effect from the proposed action:

• Water quantity and water quality

• Fish and wildlife species and their habitats

• Socioeconomics

• Environmental Justice

• Cumulative impacts

NMFS will rigorously explore and objectively evaluate a full range of reasonable alternatives in the EIS, including the proposed action (implementation of ODFW's HGMPs) and a no-action alternative. Additional alternatives could include a reduction in artificial production and/or elimination of the hatchery programs along the Oregon Coast.

For all potentially significant impacts, the EIS will identify measures to avoid, minimize, and mitigate the impacts, where feasible, to a level below significance.

Request for Comments

NMFS provides this notice to: (1) Advise other agencies and the public of its plans to analyze effects related to the action, and (2) obtain suggestions and information that may be useful to the scope of issues and the full range of alternatives to include in the EIS.

NMFS invites comment from all interested parties to ensure that the full range of issues related to Oregon Coast HGMPs is identified. Comments should be as specific as possible.

Written comments concerning the proposed action and the environmental review should be directed to NMFS as described above (see ADDRESSES). All comments and materials received, including names and addresses, will become part of the administrative record and may be released to the public.

Authority

The environmental review of the Oregon Coast HGMPs will be conducted in accordance with requirements of the NEPA of 1969 as amended (42 U.S.C. 4321 et seq.), NEPA Regulations (40 CFR parts 1500-1508), other appropriate Federal laws and regulations, and policies and procedures of NMFS for compliance with those regulations. This notice is being furnished in accordance with 40 CFR 1501.7 to obtain suggestions and information from other agencies and the public on the scope of issues and alternatives to be addressed in the EIS.

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422, July 10, 2000, as updated in 70 FR 37160, June 28, 2005).

Dated: January 12, 2016.
Perry F. Gayaldo,
Deputy Director, Office of Protected Resources, National Marine Fisheries Service.

[FR Doc. 2016-00748 Filed 1-14-16; 8:45 am]

BILLING CODE 3510-22-P